DEPARTMENT OF ENERGY

Office of Energy Efficiency and Renewable Energy

Hydrogen and Fuel Cell Technical Advisory Committee (HTAC)

AGENCY: Department of Energy.

ACTION: Notice of public meeting.

SUMMARY: This notice announces the meeting of the Hydrogen and Fuel Cell Technical Advisory Committee (HTAC). The Federal Advisory Committee Act (Pub. L. 92-463, 86 Stat. 770) requires that public notice of this meeting be announced in the Federal Register.

DATES: Wednesday, May 16, 2007; 8:30 a.m.-6 p.m. and Thursday, May 17, 2007; 8:30 a.m.-2:30 p.m.

ADDRESSES: Crystal City Marriott, 1999 Jefferson-Davis Highway, Arlington, Virginia 22202.

FOR FURTHER INFORMATION CONTACT: HTAC.Committee@ee.doe.gov.

SUPPLEMENTARY INFORMATION: Purpose of the Meeting: To provide advice, information, and recommendations to the Secretary on the program authorized by Title VIII of EPACT.

Tentative Agenda: (Subject to change; updates will be posted on hydrogen.energy.gov). The following items will be covered on the agenda:

• Status of the Interagency Task Force.

• Safety, Codes and Standards Review by U.S. Department of Energy, U.S. Department of Transportation, and involved agencies.

• Vision, scenarios, and transitions to a hydrogen economy.

• Members' preparation of the Posture Plan Review Report.

Public Participation: In keeping with procedures, members of the public are welcome to observe the business of the meeting of HTAC and to make oral statements during the specified period for public comment. The public comment period will take place between 11 a.m. and 12 noon on May 17, 2007. To attend the meeting and/or to make oral statements regarding any of the items on the agenda, e-mail HTAC.Committee@ee.doe.gov at least 5 business days before the meeting. (Please indicate if you will be attending the meeting both days or just one day). Members of the public will be heard in the order in which they sign up for the Public Comment Period. Oral comments should be limited to two minutes in length. Reasonable provision will be made to include the scheduled oral statements on the agenda. The Chair of the Committee will make every effort to hear the views of all interested parties and to facilitate the orderly conduct of business. If you would like to file a written statement with the Committee, you may do so either before or after the meeting (electronic and hard copy). This notice is being published less than 15 days before the date of the meeting due to programmatic issues.

Minutes: The minutes of the meeting will be available for public review at hydrogen.energy.gov.

Issued at Washington, DC, on April 30, 2007.
Carol Matthews,
Acting Advisory Committee Management Officer.

[FR Doc. E7-8517 Filed 5-2-07; 10:12 am]

BILLING CODE 6450-01-P